DEPARTMENT OF COMMERCE

International Trade Administration

North American Free-Trade Agreement, Article 1904; NAFTA Panel Reviews; Notice of Panel Decision

AGENCY: NAFTA Secretariat, United States Section, International Trade Administration, Department of Commerce.

ACTION: Notice of panel decision.

SUMMARY: On May 20, 2005, the binational panel issued its decision in the review of the final results of the affirmative countervailing duty re-determination on remand made by the International Trade Administration (ITA) respecting Certain Softwood Lumber Products from Canada (Secretariat File No. USA-CDA-2002-1904-03). The panel issued its third remand to the Department of Commerce. The Department will return the third re-determination based on the remand instructions of the panel. A copy of the complete panel decision is available from the NAFTA Secretariat.

FOR FURTHER INFORMATION CONTACT: Caratina L. Alston, United States Secretary, NAFTA Secretariat, Suite 2061, 14th and Constitution Avenue, Washington, DC 20230, (202) 482-5438.

SUPPLEMENTARY INFORMATION: Chapter 19 of the North American Free-Trade Agreement (“Agreement”) establishes a mechanism to replace domestic judicial review of final determinations in antidumping and countervailing duty cases involving imports from the other country with review by independent binational panels. When a Request for Panel Review is filed, a panel is established to act in place of national courts to review expeditiously the final determination to determine whether it conforms with the antidumping or countervailing duty law of the country that made the determination.

Under Article 1904 of the Agreement, which came into force on January 1, 1994, the Government of the United States, the Government of Canada and the Government of Mexico established Rules of Procedure for Article 1904 Binational Panel Reviews (“Rules”). These Rules were published in the Federal Register on February 23, 1994 (59 FR 8686).

Panel Decision: On May 20, 2005, the Binational Panel issued its third remand to the Department of Commerce's final countervailing duty determination on remand. The following issues were remanded to the Department:

1. The Department is directed, subject to the conditions set forth at the end of Section V of the opinion, to reopen the record for the limited purpose of developing price information for sales reported by syndicates in the Province of Quebec and to verify such information to the extent it feels appropriate. The Department is directed to grant sufficient time to accomplish this task, and to recalculate the Quebec benchmarks including this price information;

2. The Department is directed to recalculate the profit earned by log sellers in Quebec starting with a blended price combining both private logs and imported logs;

3. The Department is directed to grant exclusions from the countervailing duty order to sales by Ontario companies for which the “input source” was unsubsidized, and to exclude those sales from the denominator of its benefit/countervailing duty rate calculations;

4. The Department is directed to include in its calculations for Ontario, the profit earned by private log sellers; and

5. The Department is directed to match the numerators to the denominators of its countervailing duty rate calculations.

Commerce was directed to issue it's determination on remand within 45 days of the issuance of the pane decision or within 45 days of the receipt of information obtained pursuant to the reopening of the record.

Dated: May 26, 2005.
Caratina L. Alston,
United States Secretary, NAFTA Secretariat.

[FR Doc. E5-2773 Filed 5-31-05; 8:45 am]

BILLING CODE 3510-DS-P